DEPARTMENT OF HOMELAND SECURITY

Coast Guard

33 CFR Part 155

[Docket No. USCG-2016-0437]

Update to Alternative Planning Criteria National Guidelines

AGENCY: Coast Guard, Department of Homeland Security.

ACTION: National guidelines; update.

SUMMARY: The Coast Guard announces the availability of the updated alternative planning criteria national guidelines for vessel response plans (VRPs). These national guidelines provide the maritime industry with updated information on developing and submitting alternative planning criteria (alternatives). Furthermore, they facilitate consistency in the Coast Guard's review of proposed alternatives.

DATES: The updated alternative planning criteria national guidelines are available on October 16, 2017. The Coast Guard recommends that new alternatives and alternatives submitted for renewal follow the updated alternative planning criteria national guidelines. Requests for extension of currently accepted alternatives may be approved for a period not to exceed six months from the date of expiration.

ADDRESSES: MER Policy Letter 01-17: Alternative Planning Criteria National Guidelines for Vessel Response Plans is available in our online docket at http://www.regulations.gov, and on https://homeport.uscg.mil under Environmental > Vessel Response Plan Program. Comments and material received from the public, as well as documents mentioned in this notice of availability, are in our online docket at http://www.regulations.gov and can be viewed by following that Web site's instructions.

FOR FURTHER INFORMATION CONTACT: For further information about this document, call or email CDR Kevin Boyd, U.S. Coast Guard, Office of Marine Environmental Response, telephone 202-372-1226; email Kevin.C.Boyd@uscg.mil.

SUPPLEMENTARY INFORMATION:

Table of Contents

I. Abbreviations

II. Background

III. Response to Comments

I. Abbreviations

CFR Code of Federal Regulations

CG-543 U.S. Coast Guard Office of Commercial Vessel Compliance

COTP Captain of the Port

D17 U.S. Coast Guard District 17 in Alaska

MSIB Marine Safety Information Bulletin

NPC National Planning Criteria

VRP Vessel Response Plan

U.S. United States

II. Background

The alternative planning criteria national guidelines provide the maritime industry with guidance on developing and submitting alternatives in accordance with the regulations. Tank and nontank vessels meeting the applicability requirements in 33 CFR 155.1015 and 155.5015 must submit vessel response plans (VRPs). If a vessel owner or operator believes the national planning criteria (NPC) provided in 33 CFR part 155 are inappropriate for the areas in which the vessel intends to operate, the vessel owner or operator can submit an alternative(s) pursuant to 33 CFR 155.1065(f) and 155.5067. In August 2009, the U.S. Coast Guard (Coast Guard) published CG-543 Policy Letter 09-02, “Industry Guidelines for Requesting Alternate Planning Criteria Approval, One Time Waivers and Interim Operating Authorization.” The purpose of CG-543 Policy Letter 09-02, was to provide guidance to the maritime industry in proposing an alternative for tank vessel response plans pursuant to 33 CFR 155.1065(f). In September 2013, the Coast Guard published a final rule for nontank vessel regulations in 33 CFR part 155, subpart J (78 FR 60100). This final rule made the NPC in 33 CFR part 155 applicable to thousands of additional vessels across the U.S., including geographic areas with limited commercially available response resources. In 2015, D17 published a draft Marine Safety Information Bulletin (MSIB) that provided guidance for proposed alternative submissions and expectations within Alaskan waters, with a focus on nontank vessel traffic. Given the multitude of comments concerning alternative planning criteria, especially from various sectors of the maritime industry on the draft D17 MSIB, the Coast Guard determined it would be best to update the alternative planning criteria national guidelines to provide a foundation inclusive of both tank and nontank vessel communities and that applied nationally. Between 2016 and 2017, the Coast Guard drafted an update to the alternative planning criteria national guidelines, and made this available for public comment.

III. Response to Comments

On May 27, 2016, the Coast Guard published a notice announcing the availability of a draft update to the alternative planning criteria national guidelines in the Federal Register (81 FR 33685). On August 16, 2016, the Coast Guard published in the Federal Register a notice announcing a public meeting and an extension to the comment period until September 23, 2016 (81 FR 54584). The public meeting was held on September 21, 2016, in Anchorage, Alaska. On January 10, 2017, the Coast Guard published a notice announcing the reopening of the comment period until April 10, 2017 (82 FR 3016). In conjunction with the reopened comment period, additional public meetings were held to further the dialogue and awareness of the alternative planning criteria national guidelines with federal, state, tribal, and local communities, especially in remote areas of Alaska including Bethel, Dillingham, Kotzebue, Nome, Utqiagvik, Kodiak, and Dutch Harbor.

In summary, the Coast Guard received 49 electronic submissions during the two public comment periods. In addition, the Coast Guard heard statements from 12 speakers at the public meeting convened in Anchorage on September 21, 2016. From the electronically submitted comments and the statements, the Coast Guard received approximately 200 individual comments.

The Coast Guard appreciates the amount of time that federal, state, tribal, and local government entities, as well as private industry, committed throughout the two public comment periods to provide input. The value of all comments and feedback received in this process cannot be overstated. We carefully considered all of the input received when drafting the final revision to the alternative planning criteria national guidelines. A summary of all comments, and the Coast Guard's response to them, is available in our online docket at http://www.regulations.gov, and on https://homeport.uscg.mil under Environmental > Vessel Response Plan Program.

A. Alternatives as a Temporary Versus a Permanent Solution

The Coast Guard received 25 comments recommending that the alternatives permitted under 33 CFR 155.1065 and 155.5067 be accepted as permanent equivalencies with the National Planning Criteria (NPC) found in 33 CFR part 155. The Coast Guard disagrees. The Coast Guard views the allowance for alternatives to the response standards required in 33 CFR part 155 as a bridging strategy to future NPC compliance. The Coast Guard does acknowledge, however, that some operating areas, especially remote areas, may require long-term alternatives.

Particular to the NPC as an end state, one commenter noted that there exists an assumption by the Coast Guard that meeting the NPC is the only acceptable option for planning and responding to marine casualties that pose a threat of pollution, and that this assumption is flawed. We do not agree that there is an assumption that meeting the NPC is the only acceptable option for planning and responding to marine casualties that pose a threat of pollution. Such an assumption is contrary to the purpose and intent of the regulations that allow alternative planning criteria.

B. Prevention Measures

The Coast Guard received 21 comments stating that the Coast Guard, in the draft alternative planning criteria national guidelines, is abandoning prevention measures. Another commenter stated that the updated guidelines suggest that tracking and monitoring capability could take the place of the need to plan for resource capability. The Coast Guard disagrees. Prevention measures are fully acceptable when included in an alternative, but do not equal the value of response and recovery-based strategies at the time of an incident. Language in the alternative planning criteria national guidelines that may have led to the impression that prevention measures, such as vessel tracking and monitoring, could take the place of resource capability was removed.

Specific to prevention measures, one commenter believes that a conflict exists between the alternative planning criteria national guidelines and the regulations. Specifically, the commenter points out that the guidelines include very specific requirements for a tracking and monitoring system. In consideration of this comment and to avoid the perception of creating new requirements, the Coast Guard has amended the draft national guidelines to no longer include tracking and monitoring systems as a specific prevention measure within an alternative. However, we consider tracking and monitoring systems as a helpful tool for both response and prevention strategies.

One commenter noted that vessel tracking and monitoring is not necessary for all alternatives. The Coast Guard agrees. The alternative planning criteria national guidelines do not mandate the use or inclusion of vessel tracking and monitoring in proposals for alternatives.

C. Regulatory Overreach of the Alternative Planning Criteria National Guidelines

One commenter perceived that the Coast Guard was requiring the tracking of vessels to be employed in a proposed “response vessel of opportunity” network. The Coast Guard disagrees and notes that the mention of vessel of opportunity tracking was an example of a process that an alternative might consider/propose. Nevertheless, language in the alternative planning criteria national guidelines was removed that may have led to the impression that tracking of vessels was required in a proposed “response vessel of opportunity” network.

Seventeen comments suggested that the alternative planning criteria national guidelines represent regulatory overreach and an attempt to side-step the rulemaking process. The Coast Guard disagrees. The alternative planning criteria national guidelines do not create any substantive legal requirements on the regulated population. Under current Coast Guard regulation, owners and operators of both tank vessels (33 CFR 155.1065(f)) and nontank vessels (33 CFR 155.5067) may propose alternative frameworks when such vessel owner or operator believes that the national planning criteria are inappropriate for the areas in which the vessel intends to operate. The alternative planning criteria national guidelines afford a flexibility currently permitted by regulation. Therefore, they are not a rulemaking subject to notice and comment under the Administrative Procedure Act. We are providing these guidelines for the purpose of clarifying existing regulations.¹

¹ “Agencies rely on guidance to clarify regulatory text or statutes, to respond to the questions of affected parties in a timely way, and to inform the public about complex policy implementation topics.” GAO report on Regulatory Guidance Processes (April 2015).

On a related note, several commenters suggested that the language in the draft alternative planning criteria national guidelines is overly prescriptive or confusing, and therefore creates binding requirements with the “force and effect” of law. Examples include the use of definitions that either do not exist within, or are inconsistent with, the regulations. In consideration of these comments, and as noted above, we revised the alternative planning criteria national guidelines to remove language that could be perceived as inconsistent with or not covered by the regulations. The Coast Guard also removed the four draft enclosures.

D. Economic Assessment as an Element of the Request

Thirty-eight comments were received on the economic analysis to be submitted with the alternative planning criteria request, as set out in 33 CFR 155.5067. Several of these comments highlighted the potential for increased commodity and capital investment costs. Some of these comments also communicated that the alternative planning criteria national guidelines may result in significant increases in costs (for example, transportation of freight and fuel delivery by barges, transportation, home heating fuel costs of end users including native villages and other small communities in Alaska, oil spill equipment build-out costs, and contract and membership costs associated with the joining of multiple local spill response organizations as a solution to comply with the updated national guidelines).

Foremost, the Coast Guard appreciates the comments received concerning the economic impact of alternative planning criteria and associated national guidelines. The Coast Guard takes these comments very seriously, and will carefully evaluate the economic impact assessments that plan holders or Alternative Planning Criteria Administrators submit as part of their proposed alternative(s) in accordance with 33 CFR part 155.

E. Coast Guard Sector/COTP Involvement in the Review Process of Alternatives

Four comments noted that the alternative planning criteria national guidelines seem to remove the local Sector from decision making on proposed alternatives. The Coast Guard disagrees. While CG-MER is the ultimate decision making authority on proposed alternative planning criteria, local COTPs have a responsibility to review all proposed alternatives within their area of responsibility and provide an endorsement. This responsibility is set forth in 33 CFR 155.5067(a) for nontank vessels and the same responsibility applies in practice to tank vessels pursuant to 33 CFR 155.1065(f).

F. Local Area Committee Involvement in Review Process of Alternatives

The Coast Guard received 21 comments regarding the inclusion of local Area Committees as part of the process for reviewing proposed alternatives. Specifically, the concern is that the Coast Guard intends to route proposed alternatives via Area Committees for approval. In consideration of these comments, we have modified the language in the alternative planning criteria national guidelines that could have led to the misimpression that the Coast Guard intends to seek Area Committee approval. The Coast Guard changed this language to reflect that local Area Committees may be included in a COTP's evaluation of proposed alternatives. Area Committees, however, do not approve alternatives.

Additional comments questioned the legal authority under which Area Committees may be involved in the evaluation of alternatives. Area Committees were established as part of the National Planning and Response System created pursuant to Section 311 of the FWPCA (33 U.S.C. 1321(j)). Area Committees represent an essential element of oil spill and hazardous substance contingency planning. Further, there is nothing in the legislation that would limit or prevent the Coast Guard from consulting with Area Committees on proposed alternatives.

Two comments suggested that the COTP and local Area Committee should coordinate with the other federal and state entities including the Regional Response Team, National Strike Force Coordination Center, and the District Response Advisory Team, and the State of Alaska to ensure a comprehensive review of the gaps identified in alternative planning criteria submissions. The Coast Guard agrees, and notes the requirements for consultation with such entities in accordance with the National Oil and Hazardous Substance Pollution Contingency Plan (40 CFR part 300). The local Area Committee, under the direction of the Federal On-scene Coordinator (who is generally the COTP in the coastal zone), is responsible for directing the development of the Area Contingency Plan (ACP). In accordance with 40 CFR 300.210, ACPs are prepared by an Area Committee consisting of federal, state, and local agencies and in consultation with regional response teams and other appropriate entities. With respect to evaluating proposed alternatives, although consultation with Area Committees is not required by the VRP regulations, COTPs, in their discretion, may consult with Area Committees, which may include the review of gaps identified in proposed alternatives.

A related comment suggested that local Area Committees be informed by the Coast Guard when it receives a proposed alternative. As mentioned above, COTPs maintain the discretion to consult with the local Area Committee on proposed alternatives.

One commenter acknowledged the Coast Guard's stated intent to coordinate with Area Committees, District Response Advisory Teams, and Coast Guard Sectors in its review of proposed alternatives. However, the commenter suggested that it is not clear how these public involvement procedures will work in practice, especially when the Coast Guard has indicated that some alternatives may be approved in fewer than 90 days. While our regulations say that alternatives should be submitted to the Coast Guard 90 days before a vessel intends to operate under the proposed alternative, we recognize that not all proposed alternatives are the same. Some alternatives may warrant more analysis than others. In recognition of this, the alternative planning criteria national guidelines recommend submission of proposed alternatives at least 180 days before a vessel intends to operate under the proposed alternative.

G. Geographic Extent of Alternatives

Twenty-seven comments highlighted concern over the Coast Guard's intent to allow for alternatives that address a geographic area smaller than the entire extent of a COTP zone. Specifically, comments questioned the Coast Guard's authority to accept an alternative that only partially covers a COTP zone. Additionally, one comment forecasted a “compliance quagmire” if a patchwork of alternatives is allowed to exist within a COTP zone. The Coast Guard appreciates these concerns, but disagrees. The Coast Guard will continue to evaluate alternatives that adequately address areas where the NPC are inappropriate. The regulations specify that an alternative can be submitted for the geographic area(s) where the vessel intends to operate. See 33 CFR 155.1065(f) and 155.5067(a).

One commenter noted the belief that the alternative planning criteria national guidelines requirement to consider “any and all” environmental impacts of not meeting the NPC requirements is unreasonable, particularly for large and remote areas (e.g. Western Alaska). The Coast Guard agrees in part and disagrees in part. Previous alternative planning criteria policy guidance for tank vessels, as well as the existing regulations for nontank vessel response plans, require that proposed alternatives should, at a minimum, contain an environmental impact assessment (CG-543 Policy Letter 09-02 and 33 CFR 155.5067(b)). To keep within the scope of the regulatory requirements, the Coast Guard reworded the guidelines to emphasize that an environmental impact assessment should, at a minimum, be included in the submission of an alternative. Additionally, to ensure compliance with 33 CFR 155.1030 and 155.5030, proposed alternatives should highlight sensitive areas from the applicable Area Contingency Plan(s) in their environmental impact assessment.

One commenter proposed that Alaska be given its own planning standards given the physical, environmental, and geographic challenges unique to Alaska. We wish to point out that both the tank and nontank VRP regulations allow for the planning criteria to be tailored for a specific geographic location when the vessel owner or operator believes that the NPC are inappropriate for the areas they intend to operate.

H. Strategic Plan Replaced With Build-Out Plan

Seven comments reflected concern regarding the submission of a “strategic plan” as part of the proposed alternative(s). Additionally, some commenters asked how the Coast Guard would use and evaluate such a plan. We recognize the misunderstanding: We did not intend to refer to the company's strategic business plan, but rather a strategic plan for eventually meeting the NPC. In consideration of these concerns, we have revised the guidelines by replacing the phrase “strategic plan” with “build-out plan” to avoid the misimpression that industry business planning processes should be submitted as part of a proposed alternative. The build-out plan is a means by which a plan holder can address how they will build up response capability to meet the NPC. The Coast Guard has consistently stated that the intent of alternative planning criteria is to gradually build-up response capability in remote areas. See, Final Rule on “Nontank Vessel Response Plans and Other Response Plan Requirements” (78 FR 60099). The build-out plan is not a formal, organizational, strategic plan, but rather a detailed description of the measureable steps towards compliance with the NPC. The Coast Guard will review build-out plans in its review of submitted alternatives. Additionally, the Coast Guard will review achievement of build-out plan goals in its review of alternatives submitted for renewal.

I. Enforcement and Evaluation

The Coast Guard received 10 comments regarding the enforcement of alternative planning criteria, including concerns over the Coast Guard's ability to ensure compliance, especially in remote areas. The Coast Guard recognizes that remote areas may be challenging to frequent and regular verification efforts; nevertheless, at the discretion of the COTP, the Coast Guard will exercise its authority to verify compliance with approved alternatives.

One commenter recommended the Coast Guard add clarity as to what level of response capability, and future expanded capability, the Coast Guard will be seeking prior to approving future alternatives. The Coast Guard will evaluate the adequacy of response capabilities listed in alternatives, including expanded response capability addressed in the build-out plan. The Coast Guard's evaluation includes verifying that response resources are adequate in the areas intended, and that the alternative will provide an equivalent oil spill removal capacity. Additionally, alternatives are subject to equipment inspections, personnel training verifications, and exercise evaluations, including validation of build-out plan milestone achievement.

J. Policy Necessity

Two commenters questioned the need for the alternative planning criteria national guidelines, noting that the CG-543 Policy Letter 09-02 and MSIB 03-14 for Western Alaska were clear, concise, and simple. The CG-543 Policy Letter 09-02 was a national policy that only covered tank vessels. MSIB 03-14 was issued by the COTP for Western Alaska and specific to the Western Alaska COTP zone. The Coast Guard saw a need for a national policy that covers both tank and nontank vessels on alternative planning criteria.

One commenter noted that the Coast Guard's approval of an alternative plays a critical role in the level of environmental protection provided in the region. The Coast Guard agrees and notes that an environmental impact assessment is one of the elements that an owner or operator of a tank or nontank vessel should, at a minimum, include for the Coast Guard's consideration in determining whether to accept an alternative(s).

One commenter suggested that the policy reflect the stated regulation; that an alternative can be submitted for consideration any time that the vessel owner or operator feels the NPC are inappropriate or unattainable for reasons beyond their control or, when a vessel owner or operator can demonstrate that the alternative will provide an equivalent or superior level of response and/or protection as the NPC. The Coast Guard agrees in part and disagrees in part. The Coast Guard agrees that the alternative planning criteria may be submitted when an owner or operator believes the NPC are inappropriate for the area in which the vessel intends to operate. The Coast Guard does not agree, nor do the regulations in 33 CFR part 155 contemplate, the use of an alternative(s) where the NPC can be met.

K. Aleutian Islands Risk Assessment Consideration in Alternatives

One commenter noted that the Aleutian Islands Risk Assessment (AIRA) and the response model contained therein are better suited to the Alaskan region than compliance with the regulations. The Coast Guard disagrees. The AIRA presents one possible response model as an alternative planning approach for one region of the country. The Coast Guard will not dictate the prevention, response and/or mitigation strategies that a vessel owner or operator can propose where the NPC are inappropriate.

L. Applicability of Salvage and Marine Firefighting Resources in Alternatives

Two commenters recommended that salvage and marine firefighting resources should not be included in an alternative(s). The Coast Guard disagrees. Nothing in the regulations precludes the consideration of salvage and marine firefighting in a proposed alternative. Accordingly, in areas where salvage and marine firefighting national planning criteria are inappropriate, a vessel owner or operator may propose an alternative.

One commenter requested to know if the Coast Guard intends on requiring salvage and marine firefighting equipment to be listed in the Coast Guard response resource inventory (RRI). The Coast Guard appreciates the commenter's suggestion. The RRI is a voluntary option for certain response resource providers. The Coast Guard recommends that the response resources listed in alternatives be entered into the RRI.

M. Content of Proposed Alternatives Submitted to the Coast Guard

One commenter noted that the requirement to state each class of vessel and its associated worst case discharge volume and oil group is unnecessary. The Coast Guard agrees and modified the language in the alternative planning criteria national guidelines to reflect that an alternative may cover a single vessel or fleet of vessels and should state the vessel type(s) and oil volumes by type.

One commenter felt that vessel tracking, administration of vessel of opportunity programs, vessel of opportunity training programs, and the requirement to assure five vessels are available are cost prohibitive, inconceivable, and unattainable. A related comment recommended that the Coast Guard consider clarifying that the examples listed in the alternative national policy guidelines and enclosures are not requirements, but examples. The draft alternative planning criteria national guidelines did not require any of the above programs or strategies but rather presented them as examples of strategies. To avoid further confusion, however, the Coast Guard removed these examples from the alternative planning criteria national guidelines.

One commenter noted that an oil spill trajectory and fate analysis for the entire coastline of a vessel's route within a VRP geographic specific appendix is an unreasonable requirement, costly, and adds no value to a proposed alternative. We wish to make clear that while there is no specific requirement for trajectories or fate analyses, these are useful for the Coast Guard's evaluation of proposed alternatives and may appropriately be included in a plan holder's environmental impact assessment.

Two commenters noted a concern that documenting a vessel's track line information was overly burdensome and goes beyond what is required by the regulations. In consideration of these comments, we revised the alternative planning criteria national guidelines to remove language that could be perceived as inconsistent with the regulations. The revised language recommends that proposed alternatives include a general description of the intended vessel operations, such as track lines and/or intended vessel routes.

One commenter noted that the alternative planning criteria national guidelines should be written to ensure that exercises and verifications are conducted in conditions that reflect all intended seasonal operations. The Coast Guard notes that the alternative planning criteria national guidelines do not limit or otherwise prescribe the timing of exercises or verifications. The timing will ultimately be determined by the COTP as part of a risk-based decision process.

One commenter stated that continual improvement on alternatives, with a focus on response resources, should be considered when reviewing an alternative. The Coast Guard agrees and notes that the alternative planning criteria national guidelines include these considerations, especially as part of the build-out plan.

N. Submission Process for Alternatives

One commenter noted that the term “administrator” is not defined in the VRP regulations. The Coast Guard agrees and defines the term “Alternative Planning Criteria Administrator” in the alternative planning criteria national guidelines.

One commenter noted that the Coast Guard's timelines for accepting alternatives has not been in accordance with the regulatory timelines, and believes the Coast Guard should adhere to the review timeline in the regulations. The Coast Guard agrees that timely review is beneficial, and will work toward completing timely reviews of proposed alternatives. While the regulations in 33 CFR 155.1065(f) and § 155.5067(a) require submission of alternative planning criteria requests 90 days before the vessel intends to operate under a proposed alternative, the alternative planning criteria national guidelines recommend submission at least 180 days due to the myriad factors that must be evaluated, as well as the need for coordination and consultation in the review process.

One commenter noted that the Coast Guard excluded the provision for Alternative Planning Criteria Administrators to submit alternative proposals. The Coast Guard agrees and has added “Alternative Planning Criteria Administrators” to the submission process in the alternative planning criteria national guidelines.

One commenter noted that the alternative planning criteria national guidelines should address mechanisms to make revisions or improvements to an alternative after approval and/or an appeals process. The Coast Guard agrees. The alternative planning criteria national guidelines were updated to address revisions to submitted alternatives. Specifically, vessel owner or operators, or Alternative Planning Criteria Administrators, should submit any significant change that affects the information included in the accepted alternative(s) to the cognizant COTP. COTPs should endorse the proposed alternative and forward to Commandant Office of Marine Environmental Response Policy (CG-MER) through the cognizant CG District and Area staff offices.

O. Outreach

One commenter stated that, while the Coast Guard has held meetings with local stakeholders and communities in Western Alaska, the Coast Guard has not reached out to the wider shipping community that will also be affected by the alternative planning criteria national guidelines. The commenter recommended that the Coast Guard establish an industry working group that includes the wider community in order to seek constructive input into these important issues, especially given the large number of international trading vessels that transit the Great Circle Route through Western Alaska.

The Coast Guard agrees that input from stakeholders in every region is important and that is one of the reasons we requested public comment on the draft alternative planning criteria national guidelines. The Coast Guard is interested in continuing the discussion on improving the alternative planning criteria national guidelines and welcomes the opportunity to discuss the subject at local area committee meetings, regional response team meetings, and other relevant forums.

Two commenters supported improved communications between the Coast Guard and appropriate State environmental offices particular to response capability and alternatives. One commenter specifically mentioned that appropriate State environmental offices should be part of the approval and inspection/verification processes of alternatives. As Area Committee members, State environmental offices should be engaging with the Coast Guard on oil spill response planning, including response capability and alternatives. However, the Coast Guard is not abdicating its responsibility to evaluate, nor its decision making authority on the appropriateness of, proposed alternatives.

One commenter suggested that the current procedure for accepting proposed alternatives has been inconsistent and has not been an inclusive process specific to State environmental offices “as required by regulation.” We believe it is important to clarify that our regulations do not impose such a requirement, but note that the alternative planning criteria national guidelines mention that COTPs may, in their discretion, consult with Area Committees, of which State environmental offices are members. Concerning consistency in the procedure for accepting proposed alternatives, one of the goals of these alternative planning criteria national guidelines is to facilitate COTP consistency in the review of proposed alternatives. However, as noted above, not all proposed alternatives are the same; consequently, some proposals will generate more review and analysis than others.

One commenter suggested that engagement with the local communities and stakeholders should continue beyond that which has already taken place as part of the implementation of the alternative planning criteria national guidelines. The Coast Guard agrees. The Coast Guard is appreciative of the input received in the development of the alternative planning criteria national guidelines, and looks forward to continuing this dialogue at local area committee meetings, regional response team meetings, and other forums.

Three commenters suggested that it is essential that the Coast Guard monitor and report periodically to the public on the status of oil spill response readiness for a COTP zone. One commenter specifically requested that the Coast Guard require Alternative Planning Criteria Administrators or planholders to provide public summaries of the progress made toward closing response gaps and an evaluation of the prevention and risk reduction measures specified in the alternative. The Coast Guard COTPs, in coordination with the local area committee, can determine appropriate information sharing procedures to address oil spill response readiness. Additionally, the Coast Guard RRI may be a useful tool, where resource providers may voluntarily list response resources to facilitate this awareness, including the resources listed in alternatives.

One commenter suggested that the Coast Guard make available for public comment submitted alternatives, including alternatives submitted for renewal, before making its final approval determination. The Coast Guard is appreciative of this suggestion. However, we believe that initiating a public comment process for submitted alternatives would significantly impede the timely review of alternatives.

P. Miscellaneous Comments

One commenter expressed concern with the aggressive timeline associated with updating and re-submitting existing alternative planning criteria to align with the updated alternative planning criteria national guidelines. The Coast Guard agrees. Vessel owner or operators, or Alternative Planning Criteria Administrators, of currently existing alternative planning criteria may request an extension from the Coast Guard for up to six months beyond the date of expiration.

One commenter recommended that the Coast Guard post response contracts online and provide local communities with funding to assist with the outreach effort needed to gain local knowledge and expertise in the contract review of alternatives in VRPs. Posting response contracts online would create significant delays in the Coast Guard's review of submitted alternatives. This is because parties to the contract would have to redact business proprietary information, and the Coast Guard, as the entity that is posting the information, would have the responsibility of reviewing the redactions to ensure the content was acceptable for posting. We believe these additional steps would significantly impede the timely review of alternatives. Regarding the suggestion to provide funding to organizations to assist in outreach efforts, the Coast Guard does not have the legal authority to provide funding to organizations. However, engagement with local area committees, or regional response teams, offer a means to help build awareness of, and further strengthen, current strategies and response capabilities to address removal of a worst case discharge, or substantial threat of such a discharge.

Two commenters suggested that they believe competition created by accepted alternatives, and in general, competition within the oil spill prevention and response markets, is a good thing. This comment is outside the scope of the alternative planning criteria national guidelines as the purpose of the alternative planning criteria national guidelines is to provide guidance for the development and submission of alternatives with the goal of increasing response capacity.

One commenter offered that competition created in alternative planning criteria has led to response capability reductions. The Coast Guard has no authority to control market competition; therefore, this comment is outside the scope of the alternative planning criteria national guidelines.

Three commenters stated that additional resources not listed in a vessel response plan or alternative plan will not be made available to respond to an incident. These comments are outside the scope of the updated alternative planning criteria national guidelines.

One commenter suggested that VRP requirements, including alternatives, should include vessels on innocent passage. This comment is outside the scope of the updated alternative planning criteria national guidelines.

This notice is issued under the authority of 5 U.S.C. 552(a).

Joseph B. Loring,
Captain, Office of Marine Environmental Response Policy.

[FR Doc. 2017-22333 Filed 10-13-17; 8:45 am]

BILLING CODE P